ENVIRONMENTAL PROTECTION AGENCY

[OPP-2004-0266; FRL-7674-7]

Notice of Receipt of Requests to Cancel A Chromated Copper Arsenate (CCA) Use and to Amend Current Label Language

AGENCY: Environmental Protection Agency (EPA).

ACTION: Notice.

SUMMARY: In accordance with section 6(f)(1) of the Federal Insecticide, Fungicide, and Rodenticide Act (FIFRA), as amended, EPA is issuing a notice of receipt of requests from registrants of pesticide products containing Chromated Copper Arsenate (CCA) to amend affected registrations to terminate the use “members out of water and not subject to salt water [or brackish water] splash, and not in soil use,” as currently stated under American Wood Preservers' Association (AWPA) Standard C18 (Wood for Marine Construction)(For further information, please refer to the CCA guidance document at http://www.epa.gov/pesticides/factsheets/chemicals/cca_awpa_june.pdf). The requests for use termination proposed replacement label language reflecting the use terminations.

These registrants are requesting that these voluntary use terminations and associated label revisions become effective December 31, 2004. Each registrant waived the 180-day comment period (i.e., any comment period in excess of 30 days).

DATES: Unless a request is withdrawn by October 8, 2004, the Agency intends to issue cancellation orders granting these requests to amend to terminate certain uses. The Agency will consider withdrawal requests postmarked no later than October 8, 2004.

FOR FURTHER INFORMATION CONTACT: Rebecca Miller, Antimicrobials Division (7510C), Office of Pesticide Programs, Environmental Protection Agency, 1200 Pennsylvania Ave., NW., Washington, DC 20460-0001; telephone number: (703) 305-0012; e-mail address: miller.rebecca@epa.gov.

SUPPLEMENTARY INFORMATION:

I. General Information

A. Does this Action Apply to Me?

This action is directed to the public in general. Although this action may be of particular interest to persons who produce, sell, distribute or use pesticides, the Agency has not attempted to describe all the specific entities that may be affected by this action. If you have any questions regarding the information in this notice, consult the person listed under FOR FURTHER INFORMATION CONTACT.

B. How Can I Get Copies of this Document and Other Related Information?

1. Docket. EPA has established an official public docket for this action under docket identification (ID) number OPP-2004-0266. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 S. Bell Street, Arlington, VA. This docket facility is open from 8:30 a.m. to 4:00 p.m., Monday through Friday, excluding legal holidays. The docket telephone number is (703) 305-5805.

2. Electronic access. You may access this Federal Register document electronically through the EPA Internet under the “Federal Register” listings at http://www.epa.gov/fedrgstr/. An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. What Action is the Agency Taking?

This notice announces receipt by the Agency of requests from registrants of pesticide products containing Chromated Copper Arsenate (CCA) to amend affected registrations to terminate the use “members out of water and not subject to salt water [or brackish water] splash, and not in soil use,” as currently stated under American Wood Preservers' Association (AWPA) Standard C18 (Wood for Marine Construction). The registrants requesting use termination have included proposed replacement label language reflecting the use terminations. The registrants made the requests by letters dated June 4, 2004 (Osmose, Inc.), June 10, 2004 (Arch Wood Protection, Inc.), and June 28, 2004 (CSI, Inc.). In the letters, each of the registrants waived the 180-day comment period (i.e., any comment period in excess of 30 days). The label language proposed by the registrants is as follows:

A. Revised Language Experimental Use Permit (EUP)

This product may only be used for preservative treatment of the following categories of forest products and in accordance with the respective cited standard (noted parenthetically) of the 2001 edition of the American Wood-Preservers' Association (AWPA) Standards: Lumber and Timber for Salt Water Use Only (C2), Piles (C3), Poles (C4), Plywood (C9), Wood for Highway Construction (C14), Round, Half Round and Quarter Round Fence Posts (C16), Poles, Piles and Posts Used as Structural Members on Farms, and Plywood Used on Farms (C16), Wood for Marine Construction (C18), Lumber and Plywood for Permanent Wood Foundations(C22), Round Poles and Posts Used in Building Construction (C23), Sawn Timber Used To Support Residential and Commercial Structures (C24), Sawn Crossarms (C25), Structural Glued Laminated Members and Laminations Before Gluing (C28), Structural Composite Lumber (C33), and Shakes and Shingles (C34); and in accordance with the respective cited standard (noted parenthetically) of the 2002 edition of the American Wood-Preservers' Association Standards: Lumber, Timbers and Plywood for Cooling Towers (C30). Forest products treated with this product may only be sold or distributed for uses within the AWPA Commodity Standards under which the treatment occurred.

Effective December 31, 2004, this product may only be used for preservative treatment of the following categories of forest products and in accordance with the respective cited standard (noted parenthetically) of the 2001 edition of the American Wood-Preservers' Association (AWPA) Standards: Lumber and Timber for Salt Water Use (also includes brackish water) Only (C2), Piles (C3), Poles (C4), Plywood(C9), Wood for Highway Construction (C14), Round, Half Round and Quarter Round Fence Posts (C16), Poles, Piles and Posts Used as Structural Members on Farms, and Plywood Used on Farms (C16), Wood for Marine Construction for Salt Water Use (also includes brackish water)(immersion and/or subject to saltwater (or brackish water) splash[“subject to saltwater (or brackish water) splash” means any member of a marine structure which is positioned above mean high tide, but is subject to frequent wetting from wave action], [Pilings (sheet, round and square), Timbers, and Plywood; Walers, Framing, Stringers and Cross Bracing (2″x8″ and/or 3″x6″ and larger nominal dimensions and treated to a minimum of 0.60 pcf) (C18), Lumber and Plywood for Permanent Wood Foundations (C22), Round Poles and Posts Used in Building Construction(C23), Sawn Timber Used To Support Residential and Commercial Structures(C24), Sawn Crossarms (C25), Structural Glued Laminated Members and Laminations Before Gluing (C28), Structural Composite Lumber (C33), and Shakes and Shingles (C34); and in accordance with the respective cited standard (noted parenthetically) of the 2002 edition of the American Wood-Preservers' Association Standards: Lumber, Timbers and Plywood for cooling Towers (C30). Forest products treated with this product may only be sold or distributed for uses within the AWPA Commodity Standards under which the treatment occurred, except where otherwise provided above.

B. Revised Language Manufacturing Use Product (MUP)

This product may only be used (1) for formulation of the following end-use wood preservative products: ammoniacal copper zinc arsenate(ACZA) or chromated copper arsenate (CCA) labeled in accordance with the Directions for Use shown below, or (2) by persons other than the registrant, in combination with one or more other products to make: ACZA wood preservative; or CCA wood preservative that is used in accordance with the Directions for Use shown below.

This product may only be used for preservative treatment of the following categories of forest products and in accordance with the respective cited standard (noted parenthetically) of the 2001 edition of the American Wood-Preservers' Association (AWPA) Standards: Lumber and Timber for Salt Water Use Only (C2), Piles (C3), Poles (C4), Plywood(C9), Wood for Highway Construction (C14), Round, Half Round and Quarter Round Fence Posts (C16), Poles, Piles and Posts Used as Structural Members on Farms, and Plywood Used on Farms (C16), Wood for Marine Construction (C18), Lumber and Plywood for Permanent Wood Foundations(C22), Round Poles and Posts Used in Building Construction (C23), Sawn Timber Used To Support Residential and Commercial Structures (C24), Sawn Crossarms (C25), Structural Glued Laminated Members and Laminations Before Gluing (C28), Structural Composite Lumber (C33), and Shakes and Shingles (C34); and in accordance with the respective cited standard(noted parenthetically) of the 2002 edition of the American Wood-Preservers' Association Standards: Lumber, Timbers and Plywood for Cooling Towers (C30). Forest products treated with this product may only be sold or distributed for uses within the AWPA Commodity Standards under which the treatment occurred.

Effective December 31, 2004, this product may only be used for preservative treatment of the following categories of forest products and in accordance with the respective cited standard (noted parenthetically) of the 2001 edition of the American Wood-Preservers' Association (AWPA) Standards: Lumber and Timber for Salt Water Use (also includes brackish water) Only (C2), Piles (C3), Poles (C4), Plywood(C9), Wood for Highway Construction (C14), Round, Half Round and Quarter Round Fence Posts (C16), Poles, Piles and Posts Used as Structural Members on Farms, and Plywood Used on Farms (C16), Wood for Marine Construction for Salt Water Use (also includes brackish water)(immersion and/or subject to saltwater (or brackish water) splash[“subject to saltwater (or brackish water) splash” means any member of a marine structure which is positioned above mean high tide, but is subject to frequent wetting from wave action], [Pilings (sheet, round and square), Timbers, and Plywood; Walers, Framing, Stringers and Cross Bracing (2″x8″ and/or 3″x6″ and larger nominal dimensions and treated to a minimum of 0.60 pcf) (C18), Lumber and Plywood for Permanent Wood Foundations (C22), Round Poles and Posts Used in Building Construction(C23), Sawn Timber Used To Support Residential and Commercial Structures(C24), Sawn Crossarms (C25), Structural Glued Laminated Members and Laminations Before Gluing (C28), Structural Composite Lumber (C33), and Shakes and Shingles (C34); and in accordance with the respective cited standard (noted parenthetically) of the 2002 edition of the American Wood-Preservers' Association Standards: Lumber, Timbers and Plywood for Cooling Towers (C30). Forest products treated with this product may only be sold or distributed for uses within the AWPA Commodity Standards under which the treatment occurred, except where otherwise provided above.

Unless a request is withdrawn by the registrant within 30 days of publication of this notice, the Agency intends to issue cancellation orders granting these requests and ordering the registration amendments and label revisions. Users of these pesticides or anyone else desiring the retention of the affected use or having any comment on the proposed label language should contact the applicable registrant directly during this 30-day period.

Table 1 includes the names and addresses of record for all registrants, by EPA company number, requesting voluntary termination of certain uses of products listed in Table 2:

Table 1.—Registrants Requesting Voluntary Termination of Certain Uses Listed in Table 2
EPA Company No. | Company name and address
062190 | Arch Wood Protection, Inc., 1955 Lake Park Drive, Suite 250, Smyrna, GA 30080
010465 | Chemical Specialties, Inc., One Woodlawn Green, Charlotte, NC 28217
003008 | Osmose Inc., 980 Ellicott Street Buffalo, NY 14209-2398

Table 2.—Registrations With Requests for Amendments to Terminate Certain Uses
Registration Number | Product Name
End Use Products
003008-17 | K-33-C (72%) Wood Preservative
003008-21 | Special K-33 Preservative
003008-34 | K-33 (60%) Wood Preservative
003008-35 | K-33 (40%) Type-B Wood Preservative
003008-36 | K-33-C (50%) Wood Preservative
003008-42 | K-33-A (50%) Wood Preservative
003008-72 | Osmose Arsenic Acid 75%
010465-26 | CCA Type-C Wood Preservative 50%
010465-28 | CCA Type-C Wood Preservative 60%
010465-32 | CSI Arsenic Acid 75%
035896-2 | Wood-Last Conc. Wood Preservation AQ 50% Solution CCA-Type A
062190-2 | Wolmanac Concentrate 50%
062190-8 | Wolmanac Concentrate 72%
062190-14 | Wolmanac Concentrate 60%
Manufacturing Use Products
003008-66 | Arsenic Acid 75%
010465-32 | CSI Arsenic Acid 75%
062190-7 | Arsenic Acid 75%

III. What is the Agency's Authority for Taking this Action?

Section 6(f)(1) of FIFRA provides that a registrant of a pesticide product may at any time request that any of its pesticide registrations be canceled or amended to terminate use. FIFRA further provides that, before acting on the request, EPA must publish a notice of receipt of any such request in the Federal Register and provide a comment period. Thereafter, the Administrator may approve such a request.

IV. Procedures for Withdrawal of Request

Registrants who choose to withdraw a request for voluntary cancellation or amendment to terminate uses must submit such withdrawal in writing to the person listed under FOR FURTHER INFORMATION CONTACT, postmarked before October 8, 2004. This written withdrawal of the request for cancellation or amendment to terminate uses will apply only to the applicable FIFRA section 6(f)(1) request listed in this notice. If the product(s) have been subject to a previous cancellation or use termination action, the effective date of cancellation and all other provisions of any earlier cancellation order or use termination are controlling. The withdrawal request must also include a commitment to pay any reregistration fees due, and to fulfill any applicable unsatisfied data requirements.

V. Provisions for Disposition of Existing Stocks

Existing stocks are those stocks of registered pesticide products which are currently in the United States and which have been packaged, labeled, and released for shipment prior to the effective date of the cancellation action. Unless the provisions of an earlier order apply, existing stocks already in the hands of dealers or users can be distributed, sold, or used legally until they are exhausted, provided that such further sale and use comply with the EPA-approved label and labeling of the affected product. Exception to this general approach will be made in specific cases when more stringent restrictions on sale, distribution, or use of the products or their ingredients have already been imposed, as in a Special Review action, or where the Agency has identified significant potential risk concerns associated with a particular chemical.

The registrants making these requests asked for no existing stocks provisions. Should these requests be granted, on or after December 31, 2004, any sale, distribution, or use of existing stocks by the registrants of the subject registrations would be prohibited. This refers to CCA product labels that bear the proposed-to-be deleted C18 Marine Use, “members out of water and not subject to saltwater [or brackish water] splash and not in soil use.” Sale, distribution or use of the stocks in the channels of trade by persons other than the registrant may continue until depleted, provided any sale, distribution or use is in accordance with the existing label of that product.

List of Subjects

Environmental Protection, Chromated Copper Arsenate, Treated Wood, Pesticides and Pests.

Dated: August 27, 2004.
Frank Sanders,
Director, Antimicrobials Division, Office of Pesticide Programs.

[FR Doc. 04-20336 Filed 9-7-04; 8:45 am]

BILLING CODE 6560-50-S